DEPARTMENT OF JUSTICE

Federal Bureau of Prisons

Notice of Document Availability and Issuance of a Negative Declaration and Finding of No Significant Impact for the Water and Sewer Extension Project To Serve the United States Penitentiary at the Castle Airport and Aviation Development Center, Merced County, California

AGENCY: Federal Bureau of Prisons, Department of Justice/City of Atwater

SUMMARY: Notice Is Hereby Given regarding the availability of a Joint Initial Study/Environmental Assessment (IS/EA) for public review at the City of Atwater Planning Department, located at 750 Bellevue Road, Atwater, California 95301, in conformance with the California Environmental Quality Act (CEQA). The IS/EA is also available through the Federal Bureau of Prisons, 500 First Street NW, Washington DC 20534 in conformance with the National Environmental Policy Act (NEPA).

A Negative Declaration, filed by the Planning Department in conformance with CEQA, along with the Joint IS/EA may be reviewed at the City during normal business hours (8:00 AM to 5:00 PM) for a 30 day review period commencing on January 20, 2000.

The proposed project will extend municipal water and sewer services from the City of Atwater to the United States Penitentiary at the Castle Airport and Aviation Development Center. Given that the proposed project involves federal, state and local agencies, a joint CEQA/NEPA environmental document has been prepared.

All interested parties should review the document and provide written comments to the City of Atwater Planning Department (Attention: Mo Khatami, Planning and Redevelopment Director) no later than February 22, 2000. A separate Planning Commission public hearing notice will be issued by the City to provide an opportunity for interested parties to give oral comments.

Questions concerning the action can also be answered by: David J. Dorworth, 5stChief, Site Selection and Environmental Review Branch, Federal Bureau of Prisons, 320 First Street, NW, Washington, DC 20534, Telephone (202) 514-6470, Telefacsimile (202) 616-6024, ddorworth@BOP.gov.

Dated: January 18, 2000.
David J. Dorworth,
Chief, Site Selection and Environmental Review Branch.

[FR Doc. 00-1617 Filed 1-21-00; 8:45 am]

BILLING CODE 4410-05-U